DEPARTMENT OF COMMERCE

National Oceanic and Atmospheric Administration

Climate Change Science Program (CCSP) Product Development Committee (CPDC) for Synthesis and Assessment Product 1.3

AGENCY: Office of Oceanic and Atmospheric Research (OAR), National Oceanic and Atmospheric Administration (NOAA), Department of Commerce (DOC).

ACTION: Notice of open meeting.

SUMMARY: The Climate Change Science Program (CCSP) Product Development Committee for Synthesis and Assessment Product 1.3 (CPDC-S&A 1.3) was established by a Decision Memorandum dated November 21, 2006. CPDC-S&A 1.3 is the Federal Advisory Committee charged with responsibility to develop a draft Synthesis and Assessment Product that addresses CCSP Topic 1.3: “Re-analyses of Historical Climate Data for Key Atmospheric Features: Implications for Attribution of Causes of Observed Change.”

Time and Date: The meeting will be held Monday, June 25, 2007, from 1:30 p.m. to 5:30 p.m.; Tuesday, June 26, 2007, from 8:30 a.m. to 5 p.m.; and Wednesday, June 27, 2007, from 8:30 a.m. to 5 p.m. These times and the agenda topics described below are subject to change. Refer to the Web page http://www.climate.noaa.gov/ccsp/13.jsp for the most up-to-date meeting agenda.

Place: The meeting will be held at the NOAA Earth System Research Laboratory, 325 Broadway, Boulder, Colorado 80305, Room GB-124.

Status: The meeting will be open to public participation with a 30-minute public comment period on Monday, June 25 from 2:30 p.m. to 3 p.m. (check Web site to confirm this time). The CPDC-S&A 1.3 expects that public statements presented at its meetings will not be repetitive of previously submitted verbal or written statements. In general, each individual or group making a verbal presentation will be limited to a total time of five (5) minutes. Written comments (at least 35 copies) should be received by the CPDC-S&A 1.3 Designated Federal Official by June 18, 2007 to provide sufficient time for review. Written comments received after June 18 will be distributed to the CPDC-S&A 1.3, but may not be reviewed prior to the meeting date. Seats will be available on a first-come, first-served basis.

Matters To Be Considered: The meeting will include the following topics: (1) Review, recommend and make changes to the reanalysis and attribution chapters of Synthesis and Assessment Product 1.3; and (2) Discussion of plans for completion and submission of the first draft of Synthesis and Assessment Product 1.3.

FOR FURTHER INFORMATION CONTACT: Neil Christerson, Designated Federal Official, CPDC-S&A 1.3 (NOAA Climate Program Office, 1315 East-West Hwy., Suite 12105, Silver Spring, Maryland 20910. Phone: 301-734-1211, Fax: 301-713-0518, E-mail: Neil.Christerson@noaa.gov or visit the Web site at http://www.climate.noaa.gov/ccsp/13.jsp.)

Terry Bevels,
Deputy Chief Financial Officer, Office of Oceanic and Atmospheric Research, National Oceanic and Atmospheric Administration.

[FR Doc. E7-10663 Filed 6-1-07; 8:45 am]

BILLING CODE 3510-KB-P